DEPARTMENT OF COMMERCE

National Oceanic and Atmospheric Administration

RIN 0648-XE583

Magnuson-Stevens Act Provisions; Fisheries of the Northeastern United States; Northeast Multispecies Fishery; Approved Monitoring Service Providers

AGENCY: National Marine Fisheries Service (NMFS), National Oceanic and Atmospheric Administration (NOAA), Commerce.

ACTION: Notice of approved monitoring service providers.

SUMMARY: NMFS has approved five companies to provide at-sea monitoring services to Northeast multispecies vessels in fishing year 2016. Regulations implementing Amendment 16 to the Northeast Multispecies Fishery Management Plan require third-party at-sea monitoring service providers to apply to, and be approved by, NMFS in a manner consistent with the Administrative Procedure Act in order to be eligible to provide at-sea monitoring services to sectors.

ADDRESSES: Copies of the list of NMFS-approved sector monitoring service providers are available at http://www.greateratlantic.fisheries.noaa.gov/sustainable/species/multispecies/ or by sending a written request to: 55 Great Republic Drive, Gloucester, MA 01930, Attn: Mark Grant.

FOR FURTHER INFORMATION CONTACT: Mark Grant, Fishery Policy Analyst, (978) 281-9145, fax (978) 281-9135, email Mark.Grant@noaa.gov.

SUPPLEMENTARY INFORMATION: Amendment 16 (75 FR 18262; April 9, 2010) to the Northeast Multispecies Fishery Management Plan (FMP) expanded the sector management program, including requirements to ensure accurate monitoring of sector at-sea catch and dockside landings, and common pool dockside landings. Framework Adjustment 48 to the FMP (Framework 48, 78 FR 26118; May 3, 2013) revised the goals and objectives for sector monitoring programs.

Standards for Approving At-Sea Monitoring Service Providers

Regulations at 50 CFR 648.87(b)(4) describe the criteria for NMFS approval of at-sea monitoring service providers. NMFS is approving service providers for fishing year 2016 (beginning May 1, 2016) based on: (1) Completeness and sufficiency of applications; (2) determination of the applicant's ability to meet the performance requirements of a sector monitoring service provider; and (3) documented successful performance as NMFS-funded providers in fishing year 2015. Northeast multispecies sectors are required to design and implement independent, third-party at-sea monitoring programs in fishing year 2016, and are responsible for the at-sea portion of the costs of these monitoring requirements.

For fishing year 2015, NMFS approved A.I.S., Inc.; East West Technical Services, LLC; MRAG Americas, Inc.; Fathom Research, LLC; and ACD USA Ltd. as service providers. Once approved, providers must be able to document ongoing compliance with performance requirements in order to maintain eligibility (§ 648.87(b)(4)(ii)). NMFS can disapprove any previously approved service provider during the fishing year if the service provider in question ceases to meet the performance standards. NMFS must notify service providers of disapproval in writing.

Approved Monitoring Service Providers

NMFS received complete applications from five companies interested in providing at-sea monitoring services in fishing year 2016; these were the same five service providers that were approved for fishing year 2015. The Regional Administrator has approved all five service providers as eligible to provide at-sea monitoring services in fishing year 2016 because they have met the application requirements, documented an ability to comply with service provider standards, and have been determined to have met the service provider performance criteria:

Table 1—Approved Fishing Year 2016 Providers
Provider name | Address | Phone | Fax | Web site
ACD USA Ltd | 1801 Hollis St., Suite 1220, Halifax, Nova Scotia, Canada B35 3N4 | 902-749-5107 | 902-749-4552 | www.atlanticcatchdata.ca.
A.I.S., Inc | 14 Barnabas Rd., P.O. Box 1009, Marion, MA 02738 | 508-990-9054 | 508-990-9055 | aisobservers.com.
East West Technical Services, LLC | 1415 Corona Ln., Vero Beach, FL 32963 | 860-214-2435 | 860-223-6005 | www.ewts.com.
Fathom Research, LLC | 1213 Purchase St., New Bedford, MA 02740 | 508-990-0997 | 508-991-7372 | www.fathomresearchllc.com.
MRAG Americas, Inc | 65 Eastern Ave., Unit B2C, Essex, MA 01929 | 978-768-3880 | 978-768-3878 | www.mragamericas.com.

Authority: 16 U.S.C. 1801 et seq.

Dated: April 25, 2016.
Emily H. Menashes,
Acting Director, Office of Sustainable Fisheries, National Marine Fisheries Service.

[FR Doc. 2016-09970 Filed 4-28-16; 8:45 am]

BILLING CODE 3510-22-P